DEPARTMENT OF AGRICULTURE

Animal and Plant Health Inspection Service

7 CFR Part 301

[Docket No. 01-081-2]

Imported Fire Ant; Addition to Quarantined Areas

AGENCY: Animal and Plant Health Inspection Service, USDA.

ACTION: Affirmation of interim rule as final rule.

SUMMARY: We are adopting as a final rule, without change, an interim rule that amended the imported fire ant regulations by designating as quarantined areas all or portions of five counties in Arkansas, three counties in Georgia, eight counties in North Carolina, and four counties in Tennessee. As a result of that action, the interstate movement of regulated articles from those areas was restricted. The interim rule was necessary in order to prevent the artificial spread of the imported fire ant to noninfested areas of the United States.

EFFECTIVE DATE: The interim rule became effective on January 2, 2002.

FOR FURTHER INFORMATION CONTACT: Mr. Charles L. Brown, Program Manager, Invasive Species and Pest Management, PPQ, APHIS, 4700 River Road Unit 134, Riverdale, MD 20737-1236; (301) 734-4838.

SUPPLEMENTARY INFORMATION:

Background

In an interim rule effective January 2, 2002, and published in the Federal Register on January 9, 2002 (67 FR 1067-1070, Docket No. 01-081-1), we amended the imported fire ant regulations contained in §§ 301.81 through 301.81-10 by adding all or portions of five counties in Arkansas, three counties in Georgia, eight counties in North Carolina, and four counties in Tennessee to the list of quarantined areas in § 301.81-3. As a result of that action, the interstate movement of regulated articles from those areas was restricted.

Comments on the interim rule were required to be received on or before March 11, 2002. We received one comment by that date, from an association of State plant health officials. The comment supported the changes to the quarantine made by the interim rule. It also requested that the Animal and Plant Health Inspection Service consider making various other changes to the imported fire ant regulations in a separate rulemaking. We are considering those recommendations.

Therefore, for the reasons given in the interim rule and in this document, we are adopting the interim rule as a final rule without change.

This action also affirms the information contained in the interim rule concerning Executive Order 12866 and the Regulatory Flexibility Act, Executive Orders 12372 and 12988, and the Paperwork Reduction Act.

Further, for this action, the Office of Management and Budget has waived the review process required by Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 67 FR 1067-1070 on January 9, 2002.

Authority: 7 U.S.C. 166, 7711, 7712, 7714, 7731, 7735, 7751, 7752, 7753, and 7754; 7 CFR 2.22, 2.80, and 371.3.

Section 301.75-15 also issued under Sec. 204, Title II, Pub. L. 106-113, 113 Stat. 1501A-293; sections 301.75-15 and 301.75-16 also issued under Sec. 203, Title II, Pub. L. 106-224, 114 Stat. 400 (7 U.S.C. 1421 note).

Done in Washington, DC, this 7th day of May, 2002.
Peter Fernandez,
Acting Administrator, Animal and Plant Health Inspection Service.

[FR Doc. 02-11898 Filed 5-10-02; 8:45 am]

BILLING CODE 3410-34-P